Proclamation 8437 of October 9, 2009

Columbus Day, 2009

By the President of the United States of America

A Proclamation

More than 500 years have passed since Christopher Columbus set sail across the Atlantic Ocean in a bold attempt to expand human understanding of the known world. His voyage radically altered the course of history and changed our world forever. Many generations later, that same spirit of exploration inspires Americans to pursue brave new frontiers in business, science, and technology. Today, we reflect on the transformation of North America from a land of boundless opportunity to the modern communities of the 21st century.

Born in Genoa, Italy, Christopher Columbus’ journey aboard three Spanish ships revealed a new land for many European nations whose people would later flock to our shores in search of prosperity and freedom. These immigrants joined many thriving indigenous communities who suffered great hardships as a result of the changes to the land they inhabited. Although their competing ways of life were initially at odds, over time, the “New World” became a culturally and ethnically diverse place where we now enjoy the free exchange of ideas and democratic self-governance. Tribal communities continue to strengthen our Nation through their rich heritage and unique identity.

Columbus inspired generations of men and women to search out the farthest reaches of the world. From the coasts of Newfoundland to the Gulf of Mexico, explorers of Italian descent have directly influenced the growth of North America. Their dedication to our country has helped lay the foundation on which America was built. Today, Italian Americans continue to contribute immeasurably to the identity of our Nation, as role models, leaders, innovators, and committed public servants. From the boardroom to the classroom, they are prominent in every facet of American life.

In commemoration of Christopher Columbus’ historic exploration 517 years ago, the Congress, by joint resolution of April 30, 1934 (48 Stat. 657), and an Act of June 28, 1968 (82 Stat. 250), has requested that the President proclaim the second Monday of October of each year as “Columbus Day.”

NOW, THEREFORE, I, BARACK OBAMA, President of the United States of America, do hereby proclaim October 12, 2009, as Columbus Day. I call upon all the people of the United States to observe this day with appropriate ceremonies and activities. I also direct that the flag of the United States be displayed on all public buildings on the appointed day in honor of Christopher Columbus.

IN WITNESS WHEREOF, I have hereunto set my hand this ninth day of October, in the year of our Lord two thousand nine, and of the Independence of the United States of America the two hundred and thirty-fourth.

[FR Doc. E9-25082

Filed 10-15-09; 8:45 am]

Billing code 3195-W9-P